DEPARTMENT OF ENERGY

Federal Energy Regulatory Commission

[Docket No. PR02-10-002]

Enogex Inc.; Notice of Compliance Filing

May 28, 2003.

Take notice that on May 22, 2003, Enogex Inc. tendered for filing a revised Statement of Operating Conditions in compliance with the Commission's order dated May 9, 2003. Enogex Inc., 103 FERC ¶ 61,161 (2003).

Any person desiring to protest said filing should file a protest with the Federal Energy Regulatory Commission, 888 First Street, NE., Washington, DC 20426, in accordance with § 385.211 of the Commission's rules and regulations. All such protests must be filed on or before the protest date as shown below. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. Comments, protests and interventions may be filed electronically via the Internet in lieu of paper. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: June 3, 2003.

Magalie R. Salas,
Secretary.

[FR Doc. 03-13992 Filed 6-3-03; 8:45 am]

BILLING CODE 6717-01-P